DEPARTMENT OF HEALTH AND HUMAN SERVICES

Office of the Secretary

[Document Identifier HHS-OS-0990-0392-60D]

Agency Information Collection Activities; Proposed Collection; Public Comment Request

AGENCY: Office of the Assistant Secretary for Health, Office of Adolescent Health, HHS.

ACTION: Notice.

SUMMARY: In compliance with section 3506(c)(2)(A) of the Paperwork Reduction Act of 1995, the Office of the Secretary (OS), Department of Health and Human Services, announces plans to request an extension without change of a currently approved Information Collection Request (ICR) to the Office of Management and Budget (OMB). Prior to submitting that request to OMB, OS seeks comments from the public regarding the burden estimate, below, or any other aspect of the ICR.

DATES: Comments on the ICR must be received on or before April 6, 2015.

ADDRESSES: Submit your comments to Information.CollectionClearance@hhs.gov or by calling (202) 690-6162.

FOR FURTHER INFORMATION CONTACT: Information Collection Clearance staff, Information.CollectionClearance@hhs.gov or (202) 690-6162.

SUPPLEMENTARY INFORMATION: When submitting comments or requesting information, please include the document identifier HHS-OS-0990-0392-60D for reference.

Information Collection Request Title: Office of Adolescent Health and Administration for Children, Youth and Families Teen Pregnancy Prevention Performance Measure Collection.

Abstract: The Office of Adolescent Health (OAH), U.S. Department of Health and Human Services (HHS) is requesting an extension without change of a currently approved information collection request by OMB. The purpose of the extension is to complete the ongoing data collection for the Office of Adolescent Health and Administration for Children, Youth and Families Teen Pregnancy Prevention Performance Measures.

Need and Proposed Use of the Information: To collect performance measure data on the OAH Teen Pregnancy Prevention (TPP) Program and the ACF/FYSB Personal Responsibility Education Program Innovative Strategies (PREIS). These data will allow OAH and FYSB to monitor the progress of program grantees, and to report to Congress on the performance of the programs.

Likely Respondents: The 106 TPP and PREIS grantees and approximately 2000 PREIS youth participants.

Burden Statement: Burden in this context means the time expended by persons to generate, maintain, retain, disclose or provide the information requested. This includes the time needed to review instructions, to develop, acquire, install and utilize technology and systems for the purpose of collecting, validating and verifying information, processing and maintaining information, and disclosing and providing information, to train personnel and to be able to respond to a collection of information, to search data sources, to complete and review the collection of information, and to transmit or otherwise disclose the information.

The total annual burden hours estimated for this ICR are summarized in the table below.

Total Estimated Annualized Burden—Hours
Forms (if necessary) | Type of respondent | Number of respondents | Number of responses per respondent | Average burden hours per response | Total burden hours
Measures for all grantees | Grantee program staff—all | 106 | 1 | 7 | 742
Participant-level measures | Grantee program staff—Tier 1 C/D, Tier 2, and PREIS | 45 | 1 | 1 | 45
Perceived impact questions | Youth participants—PREIS | 2000 | 1 | 5/60 | 167
Perceived impact measures | Grantee program staff—PREIS | 11 | 1 | 3 | 33
Total |  | 2,106 |  |  | 987

OS specifically requests comments on (1) the necessity and utility of the proposed information collection for the proper performance of the agency's functions, (2) the accuracy of the estimated burden, (3) ways to enhance the quality, utility, and clarity of the information to be collected, and (4) the use of automated collection techniques or other forms of information technology to minimize the information collection burden.

Darius Taylor,
Information Collection Clearance Officer.

[FR Doc. 2015-02249 Filed 2-4-15; 8:45 am]

BILLING CODE 4168-11-P